DEPARTMENT OF ENERGY

Federal Energy Regulatory Commission

[Project No. 14655-001]

Cat Creek Energy, LLC; Notice of Successive Preliminary Permit Application Accepted for Filing and Soliciting Comments, Motions To Intervene, and Competing Applications

On November 9, 2018, Cat Creek Energy, LLC (Cat Creek) filed an application for a successive preliminary permit, pursuant to section 4(f) of the Federal Power Act (FPA), to study the feasibility of the proposed Cat Creek Energy Generation Facility Pumped Storage Hydroelectric Project (project) to be located at the U.S. Bureau of Reclamation's (Reclamation) Anderson Ranch Reservoir on the South Fork of the Boise River near Mountain Home in Elmore County, Idaho. The sole purpose of a preliminary permit, if issued, is to grant the permit holder priority to file a license application during the permit term. A preliminary permit does not authorize the permit holder to perform any land-disturbing activities or otherwise enter upon lands or waters owned by others without the owners' express permission.

As stated in the original permit for the project, Reclamation retains jurisdiction over hydropower development at the Anderson Ranch dam, reservoir, and powerhouse, which are part of Reclamation's Boise Project. However, the Commission retains jurisdiction for hydropower facilities that would be located outside of Reclamation's development. Thus, an entity seeking to build a hydropower project that would use Reclamation's Boise Project facilities would need to obtain a lease of power privilege from Reclamation, but it also would need to obtain a license from the Commission for those facilities of the hydropower project that are not under Reclamation's jurisdiction.

The proposed project would utilize Reclamation's existing Anderson Ranch Reservoir as a lower reservoir and would consist of the following new facilities: (1) A 4.3-mile-long, 80-foot-high earthen dam; (2) a 63,500-acre-foot impoundment as an upper reservoir; (3) six 2,500-foot-long, 14- to 16-foot-diameter steel penstocks; (4) two 100-foot-diameter concrete silos; (5) twelve 60-megawatt (MW) ternary turbine/generator units, for a total capacity of 720 MW; (6) an 8.1-mile-long, 230-kilovolt transmission line interconnecting with the existing Bonneville Power Administration Dixie Substation; (7) an approximately 2-mile-long access road; and (8) appurtenant facilities. The estimated annual generation of the project would be 1,965.4 gigawatt-hours.

Applicant Contact: James T. Carkulis, Cat Creek Energy, LLC, 398 S 9th Street Suite 240, Boise, ID 83702; phone: (208) 954-5090.

FERC Contact: Karen Sughrue; phone: (202) 502-8556.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-14655-001.

More information about this project, including a copy of the application, can be viewed or printed on the “eLibrary” link of the Commission's website at http://www.ferc.gov/docs-filing/elibrary.asp. Enter the docket number (P-14655) in the docket number field to access the document. For assistance, contact FERC Online Support.

Dated: November 20, 2018.
Kimberly D. Bose,
Secretary.

[FR Doc. 2018-25813 Filed 11-26-18; 8:45 am]

BILLING CODE 6717-01-P